DEPARTMENT OF AGRICULTURE

Food Safety and Inspection Service

[Docket No. FSIS-2008-0019]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on September 24, 2008. The objective of the public meeting is to provide information and receive public comments on agenda items and draft United States positions that will be discussed at the 30th Session of the Codex Committee on Nutrition and Foods for Special Dietary Uses (CCNFSDU) of the Codex Alimentarius Commission (Codex), which will be held in Capetown, South Africa, on November 3-November 7, 2008. In addition, a working group will meet on November 1, 2008, to discuss agenda items on the Scientific Basis of Health Claims and Nutrient Reference Values for food labeling purposes, and any other matters related to the World Health Organization's (WHO) Global Strategy on Diet, Physical Activity and Health which are under consideration by the CCNFSDU. The Under Secretary for Food Safety and FDA recognize the importance of providing interested parties the opportunity to obtain background information on the 30th Session of CCNFSDU and to address items on the agenda.

DATES: The public meeting is scheduled for Wednesday, September 24, 2008, from 1 p.m. to 4 p.m.

ADDRESSES: The public meeting will be held in the Auditorium (1A003), Food and Drug Administration, Harvey Wiley Federal Building, 5100 Paint Branch Parkway, College Park, MD 20740. Parking is adjacent to this building and will be available at no charge to individuals who pre-register by the date below (See Pre-Registration). In addition, the College Park metro station is across the street. Codex documents related to the 30th Session of the CCNFSDU will be accessible via the World Wide Web at the following address: http://www.codexalimentarius.net/current.asp.

Pre-Registration: To gain admittance to this meeting, individuals must present a photo ID for identification and also are required to pre-register. In addition, no cameras or videotaping equipment will be permitted in the meeting room. To pre-register, please send the following information to e-mail address nancy.crane@fda.hhs.gov by September 17, 2008:

—Your Name

—Organization

—Mailing Address

—Phone number

—E-mail address

For Further Information About the 30th Session of the CCNFSDU Contact: Nancy Crane, Assistant to the U.S. Delegate to the CCNFSDU, Office of Nutrition, Labeling and Dietary Supplements, Center for Food Safety and Applied Nutrition, FDA, 5100 Paint Branch Parkway (HFS-830), College Park, MD 20740, Phone: (301) 436-1450, Fax: (301) 436-2636, E-mail: nancy.crane@fda.hhs.gov.

For Further Information About the Public Meeting Contact: Edith Kennard, Staff Officer, U.S. Codex Office, Food Safety and Inspection Service (FSIS), Room 4861, South Building, 1400 Independence Avenue, SW., Washington, DC 20250, Phone: (202) 720-5261, Fax: (202) 720-3157, E-mail: edith.kennard@fsis.usda.gov.

SUPPLEMENTARY INFORMATION:

Background

The Codex Alimentarius (Codex) was established in 1963 by two United Nations organizations, the Food and Agriculture Organization and the WHO. Through adoption of food standards, codes of practice, and other guidelines developed by its committees, and by promoting their adoption and implementation by governments, Codex seeks to protect the health of consumers and ensure that fair practices are used in trade.

The CCNFSDU was established to study specific nutritional problems assigned to it by the Commission and advise the Commission on general nutritional issues; to draft general provisions as appropriate concerning the nutritional aspects of all foods; to develop standards, guidelines, or related texts for foods for special dietary uses in cooperation with other committees when necessary; and to consider, amend if necessary, and endorse provisions on nutritional aspects proposed for inclusion in Codex standards, guidelines, and related texts. The Committee is hosted by the Federal Republic of Germany.

Issues To Be Discussed at the Public Meeting

The following items on the agenda for the 30th Session of the CCNFSDU will be discussed during the public meeting:

• Matters Referred to the Committee from Other Codex Bodies (including the Global Strategy on Diet, Physical Activity and Health and Infant Formula Methods of Analysis);

• Guidelines for Use of Nutrition Claims: Draft Table of Conditions for Nutrient Contents: Part B, Containing Provisions on Dietary Fibre

• Draft Advisory List of Nutrient Compounds for Use in Foods for Special Dietary Uses for Infants and Young Children: Part D Advisory List of Food Additives for Special Nutrient Forms: Provisions on Gum Arabic;

• Draft Nutritional Risk Analysis Principles and Guidelines for Application to the Work of the Committee on Nutrition and Foods for Special Dietary Uses;

• Proposed Draft Recommendations on the Scientific Basis of Health Claims;

• Proposal for New Work to Amend the Codex General Principles for the Addition of Essential Nutrients to Foods;

• Proposal for New Work to Establish a Standard for Processed Cereal-Based Foods for Underweight Infants and Young Children;

• Additional or Revised Nutrient Reference Values (NRVs).

Each issue listed will be fully described in documents distributed, or to be distributed, by the Secretariat prior to the meeting. Members of the public may access copies of these documents at http://www.codexalimentarius.net/current.asp.

Public Meeting

At the September 24, 2008, public meeting, draft U.S. positions on these agenda items will be described and discussed, and attendees will have the opportunity to pose questions and offer comments. Written comments may be offered at the meeting or sent to the U.S. Delegate for the 30th Session of CCNFSDU, Dr. Barbara Schneeman, at CCNFSDU@fda.hhs.gov. Written comments should state that they relate to activities of the 30th Session of the CCNFSDU.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and they have the option to password protect their accounts.

Done at Washington, DC, on September 15, 2008.
Karen L. Hulebak,
Acting U.S. Manager for Codex Alimentarius.

[FR Doc. E8-21829 Filed 9-17-08; 8:45 am]

BILLING CODE 3410-DM-P